DEPARTMENT OF LABOR

Employment and Training Administration

Section 167, Workforce Investment Act: Migrant and Seasonal Farmworker Housing Programs

AGENCY: Employment and Training Administration, Department of Labor.

ACTION: Notice of availability of funds and solicitation for grant applications.

SUMMARY: The U.S. Department of Labor, Employment and Training Administration (ETA), announces the availability of $3,666,667 to award competitive grants for projects that assist farmworkers in seeking and securing temporary or permanent housing. This program is supported by funds made available pursuant to Section 167, of the Workforce Investment Act (WIA).

DATES: Applications for grant awards will be accepted commencing May 15, 2001. The closing date for receipt of applications shall be June 15, 2001 at 2 p.m. (Eastern Standard Time) at the address below.

ADDRESSES: Submit an original and four copies of the application to: U.S. Department of Labor, Employment and Training Administration, Office of Grants and Contract Management, Division of Federal Assistance, 200 Constitution Avenue, NW., Room S-4203, Washington, DC 20210. ATTN: Ms. Serena Boyd, Reference SGA/DAA 01-108

FOR ADDITIONAL INFORMATION CONTACT: Ms. Serena Boyd, telephone (202) 693-3338 (this is not a toll-free number) or email SBoyd@doleta.gov). This solicitation will be published on the internet on the Employment and Training Administration's Home Page at http://doleta.gov. Award notifications will also be published on this Home Page.

SUPPLEMENTARY INFORMATION: This Solicitation for Grant Applications (SGA) consists of five parts. Part I provides the background, objectives and allowable activities of the Farmworker Housing Assistance program. Part II describes the content of the technical proposal and the selection criteria used in reviewing proposals. Part III describes the financial proposal and other required documents of the proposal. Part IV sets forth the application process. Part V describes the reporting requirements. This notice contains all information required to submit a grant application.

Part I—Background

To meet the problems of agriculture-related unemployment and underemployment, the Congress has directed the Secretary of Labor to establish employment and training programs specifically for migrant and seasonal farmworkers. Under section 167 of WIA, the Department of Labor (DOL) provides employment, training and supportive services to eligible migrant and seasonal farmworkers in the conterminous forty-eight (48) States, the State of Hawaii, and the Commonwealth of Puerto Rico.

Housing needs are a primary barrier to employment and job retention for many farmworkers. Farmworker housing assistance has been an authorized activity under the Job Training Partnership Act (JTPA) and continues to be under WIA section 167. To further support this needed service, the DOL has long invested in strategic efforts to increase farmworker access to rental housing and home ownership opportunities. The DOL awarded a total of $3,000,000 in farmworker housing assistance grants for Program Year (PY) 2000 in support of this effort. DOL also awarded $333,333 for support of the staff who operated the Hope Migrant Rest Center in PY 2000.

In the past year, working in coordination with current Migrant and Seasonal Farmworker (MSFW) housing assistance grantees, DOL has reviewed the farmworker housing program allowable activities to ensure continued appropriateness under WIA section 167. The activities acceptable for implementation in PY 2001 fall in two categories: (1) activities which serve to leverage funds leading to increased farmworker housing stock, and (2) farmworker housing activities directly delivered to farmworkers.

Applications must show how proposed activities promote and expand housing to migrant and seasonal farmworkers. Proposed activities are limited to the two categories of direct housing activities and leveraging. The farmworkers eligible for housing assistance are those who are employed in agricultural labor that is characterized by chronic unemployment and underemployment.

In Program Year 2001, the DOL will award up to nine grants for a total of $3,666,667. DOL will consider applications from regional consortia or applications that feature sub-grant arrangements to facilitate services within a proposed service delivery area. Inasmuch as some grant applications may contain proposed service areas which geographically overlap the service areas of other prospective grantees, the Department reserves the right to determine the service area for each prospective grantee.

Overall Objectives

As this farmworker housing grant program continues into a new program year there will be increased emphasis on efficiency and reliance on quantifiable (hence measurable) results.

Part II—Technical Proposal and Rating Criteria

The technical proposal shall consists of four (4) sections. The rating criteria and points are described immediately following each respective section.

1. Statement of Need

The Statement of Need sets forth the objectives, general specification and conditions for providing farmworker housing assistance during Program Year 2001 grant period.

The applicant must describe the proposed geographic service delivery area and the demographics of the farmworker population in the proposed service delivery area. The description of demographics must include (but is not limited to) the number and type (migrant or seasonal) of farmworkers; family status (single or families), income range, type of work and approximate length of time the farmworkers are generally engaged in. The statement of need must clearly describe the housing needs of the farmworker population in the specific service delivery area and, the housing needs which are the most critical for the population in this area.

Rating Criteria for Statement of Need—20 Points: Clear and descriptive response to each of the above identified categories of information.

2. Program Design

The applicant's program design must include:

A. The service or activities to be provided and rationale for the selection of the proposed activities/services proposed, relative to the identified needs.

B. The services/activities proposed must be within the following categories of activities:

(1) Direct assistance to farmworkers leading to access and maintenance of affordable rental homes or home ownership;

(2) Leveraging of resources

• Leading to increased farmworker housing stock, and/or

• Maintenance of current farmworker housing stock.

C. The applicant must set measurable (quantitative) goals by category, for each activity identified, for each quarter of the program year (funding period).

D. Budget Narrative: The applicant must include in this section an itemized, line item annual budget with a narrative description of the costs supporting each line item. Proposed expenditures must be consistent with and fully support the proposed housing activities. Total budget costs shall be equal to the total Federal Assistance requested in the applicant's financial proposal.

Rating Criteria for Program Design—50 Points: Rating will be based on the completeness, applicability, and appropriateness of the applicant response to the elements in items A through D.

3. Technical and Organizational Capacity

The applicant must demonstrate technical capacity to provide proposed services by providing a descriptive narrative of:

(a) The specific types of farmworker housing activities and services it has provided for no less than the past five years; and

(b) The outcomes achieved through the above activities.

If the applicant constitutes a consortium of agencies/organizations where the expertise lies with the consortium members, items (a) and (b) above must also apply to the consortium members who will be the deliverers of the service, a descriptive narrative demonstrating this must be included as an addendum to this application package.

Applicants must demonstrate organizational capacity in the delivery of services by providing a listing of all federal grants it has administered in the past five years. The list must include: project name, objectives, grant number and amount, grant period, and grant funding source. Each applicant must also include in this section the applicant's organizational chart and a list of names of key agency officials and all staff to be specifically funded with this proposed project. For each agency official and staff to be specifically funded (in whole or in part) by this proposal, please include a resume and the position description. For any position to be funded by this proposal but for which a staff person has not yet been identified, please include a position description.

Rating Criteria for Technical and Organizational Capacity—20 Points: Rating will be based on the completeness of the applicant's response to each of the specific items of information requested in this section. Secondly, the application will also be rated on the technical and organizational experience which is directly related to farmworker housing services and activities documented by the applicant.

4. Linkages and Coordination

The applicant should identify and demonstrate (including letters of support) linkages with farmworker organizations and specifically with NFJP grantees. Additionally, the applicant should fully describe the direct connection between the identified linkages and services the applicant will provide to farmworkers. For purposes of the application, simply listing the services the linkage provides will not suffice. Linkages and coordinative efforts relevant to this application and considered for rating purposes must directly correspond to the proposed services and needs of the population to be served, and must directly enhance the applicant's capacity to provide such services.

Rating Criteria for Linkages and Coordination—10 Points: Rating will be based on the completeness of the applicant's response, and the relevancy of the linkages to meeting the needs identified in the application.

Part III—Financial Proposal

The financial proposal must include a completed “Application for Federal Assistance” (SF-424), and Budget Information Sheet. Both required forms are attached to this SGA. For purposes of this application, the Catalog of Federal Domestic Assistance Number is 17.255.

Rating Criteria for Part III—0 points: No points are allocated to the Financial Proposal however, incomplete information to this part will render the application non-responsive and thereby it will not be considered for funding. A budget narrative is required as specified in the Technical Proposal of this application under the Program Design discussion.

Part IV—Application Process

A. Eligible Applicants

Eligible applicants for grant funds under this SGA include public organizations and private nonprofit organizations authorized by their charters or articles of incorporation to provide housing assistance services to the migrant and seasonal farmworker community. Entities described in Section 501(c)(4) of the Internal Revenue Code that engage in lobbying activities are not eligible to receive funds under this SGA. The Lobbying Disclosure Act of 1995, 2 U.S.C. 1601 et, prohibits the award of federal funds to 501(c)(4) entities.

B. Application Procedures

(1) Submission of Proposal

All instructions and information required for submission of this application are included in this announcement.

The application package shall consist of two (2) separate and distinct parts. Part I, The Financial Proposal and Part II the Technical Proposal. The Financial Proposal must contain the SF-424, “Application for Federal Assistance” (Attachment No. 1) and Budget (Attachment No. 2). The Catalog of Federal Domestic Assistance Number is 17.255. The budget must include on separate page(s) a cost analysis of the budget, identifying in detail the amount of each budget line item attributable to each cost category. The technical proposal as described in Part II, must demonstrate the applicant's capability to provide the services described in this SGA.

The Technical Proposal is limited to forty (40) doubled spaced, single-sided, 8.5 inch x 11 inch pages with 1 inch margins and 12-point text type. Appendices, which are separately numbered, must not exceed twenty (20) pages.

Applications not meeting these requirements will be considered non-responsive. Final decisions on the awards will be based on what is most advantageous to the Federal Government as determined by the Grant Officer.

(2) Hand-Delivered Proposals

Proposals may be mailed or delivered by hand. Hand delivered proposals will be accepted if they are received by 2 p.m., Eastern Standard Time on June 15, 2001. All overnight 9 mail will be considered to be hand-delivered and must be received at the designated place by the specified time on the closing date. Applications transmitted by electronic mail, telegraph, facsimile and/or faxed will not be honored. Except as provided in paragraph 3 below, failure to adhere to these instructions will render a proposal non-responsive.

(3) Late Proposals

An application not received by the specified time and date and reaching the designated place, will not be considered, unless it is received before funds are awarded and was either:

(a) Sent by U. S. Postal Service registered or Certified mail no later than the fifth (5th) calendar day before the date specified for receipt of application; or

(b) Was sent by U.S. Postal Express Mail Next Day Service through a U.S. Post Office to the addressee, no later than 5 p.m. at the place of mailing two working days (excludes week-ends and U.S. Federal holidays) prior to the closing date for receipt of proposals.

The only acceptable evidence for establishing the date of mailing by the U.S. Postal Service for applications received after the closing date and time is the U.S. Postmark. The U.S. Postmark must be on the envelope or wrapper and on the original receipt from the U.S. Postal Service with a clearly legible date. “Postmark” means a printed, stamped, or otherwise placed impression (exclusive of postage meter machine impression) that is readily identifiable without further action as having been supplied and affixed by employees of the U.S. Postal Service on the date of mailing. Therefore, applicants should request the postal clerk to place a legible hand 10 cancellation “bull's eye” postmark on both the receipt and the envelope.

(4) Period of Performance

The period of performance will be 12 months beginning July 1, 2001, and continuing through June 30, 2002.

(5) Option To Extend

The Department reserves the right to extend this grant for an additional one year, based on the availability of funds, a grantee's success in completing work under this SGA, and the needs of the Department.

Part V—Reporting Requirements

Recipients of grant funds under this SGA will be required to submit reports, as determined by the Division of Migrant and Seasonal Farmwork Programs, Office of National Programs, Employment and Training Administration, U. S. Department of Labor.

Lorraine H. Saunders,
Grant Officer, Division of Federal Assistance.

BILLING CODE 4510-30-P

[FR Doc. 01-12011 Filed 5-11-01; 8:45 am]

BILLING CODE 4510-30-C